DEPARTMENT OF TRANSPORTATION

Federal Motor Carrier Safety Administration

[Docket Nos. FMCSA-2006-26367 and FMCSA-2011-0131]

Public Meeting of a Joint Subcommittee of the Motor Carrier Safety Advisory Committee and the Medical Review Board; Obstructive Sleep Apnea

AGENCY: Federal Motor Carrier Safety Administration (FMCSA), DOT.

ACTION: Notice of Joint Subcommittee of the Meeting of Motor Carrier Safety Advisory Committee (MCSAC) and Medical Review Board (MRB).

SUMMARY: FMCSA announces that MCSAC and MRB will hold a joint subcommittee meeting on Wednesday- Thursday, January 4-5, 2012. Both days of the meeting will be open to the public.

Time and Dates: The joint MCSAC-MRB subcommittee meeting will be held on Wednesday-Thursday, January 4-5, 2012, from 8:30 a.m. to 5 p.m., Eastern Time (E.T.). The meeting will be held at the Hilton Alexandria Old Town, 1767 King Street, Alexandria, VA 22314 in the Washington and Jefferson Rooms on the 2nd floor. The Hilton Alexandria Old Town is located across the street from the King Street Metro station.

Matters To Be Considered: The MCSAC-MRB subcommittee will consider ideas and concepts the Agency should consider for potential regulatory changes to the current physical qualifications standards to address the medical certification process for truck and bus drivers that have been diagnosed with OSA or are believed to suffer from the disease but have not been diagnosed at the time of the medical examination. The subcommittee will make its recommendations to the MCSAC and MRB for their deliberation at a joint meeting of the two bodies in February 2012. Upon approval by the MCSAC and MRB, the recommendations will be submitted to FMCSA for consideration. Copies of Task Statement 11-05 and an agenda for the 2-day meeting will be made available on the MCSAC and MRB Web sites at http://mcsac.fmcsa.dot.gov and http://mrb.fmcsa.dot.gov, respectively.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals with Disabilities:

For information on facilities or services for individuals with disabilities or to request special assistance at the meeting, contact Elizabeth Turner at (617) 494-2068, elizabeth.turner@dot.gov, by Wednesday, December 28, 2011.

SUPPLEMENTARY INFORMATION:

I. Background

MCSAC

Section 4144 of the Safe, Accountable, Flexible, Efficient Transportation Equity Act: A Legacy for Users (SAFETEA-LU, Public Law 109-59, 119 Stat. 1144, August 10, 2005) required the Secretary of Transportation to establish the MCSAC. The MCSAC provides advice and recommendations to the FMCSA Administrator on motor carrier safety programs and regulations, and operates in accordance with the Federal Advisory Committee Act (FACA, 5 U.S.C. App 2).

MRB

Section 4116 of the SAFETEA-LU requires the Secretary of Transportation, with the advice of the MRB, to “establish, review, and revise medical standards for operators of CMVs that will ensure that the physical condition of operators of CMVs is adequate to enable them to operate the vehicles safely.” On November 2, 2010, the Secretary of Transportation announced the five medical experts who serve on the MRB. FMCSA is planning revisions to the physical qualification regulations of CMV drivers, and the MRB will provide the necessary science-based guidance to establish realistic and responsible medical standards. The MRB operates in accordance with FACA.

Obstructive Sleep Apnea

The MCSAC and the MRB met jointly on December 7, 2011, to discuss ideas and concepts the Agency should consider for regulatory guidance and, potentially, for future rulemaking on OSA. The MCSAC and MRB completed their joint recommendation on regulatory guidance on OSA and issued a letter report at the end of the meeting. As a result of these discussions, a joint subcommittee was formed to develop ideas and concepts the Agency should consider for a potential notice-and-comment rulemaking to address the issue of OSA.

II. Meeting Participation

Oral comments from the public will be heard during the last half-hour of the meeting on Wednesday and Thursday. Members of the public may submit written comments on the topics to be considered during the meeting by Wednesday, December 28, 2011, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: December 13, 2011.
Larry W. Minor,
Associate Administrator for Policy.

[FR Doc. 2011-32444 Filed 12-16-11; 8:45 am]

BILLING CODE 4910-EX-P